DEPARTMENT OF JUSTICE

Notice of Lodging of Consent Decree Under the Clean Water Act

Notice is hereby given that on October 23, 2014, the U.S. Department of Justice lodged a proposed consent decree with the United States District Court for the Southern District of New York in United States v. Kiryas Joel Poultry Processing Plant, Inc., No. 14 Civ. 8458.

The United States filed a complaint in this action on the same day that the consent decree was lodged with the Court. The defendants are Kiryas Joel Poultry Processing Plant, Inc. and Kiryas Joel Meat Market Corporation. The complaint relates to the defendants' poultry processing plant located at 7 Dinev Court, Monroe, New York, and their pretreatment facility, located at or near 50 Bakertown Road, Monroe, New York. The complaint alleges that the defendants violated the Clean Water Act, 33 U.S.C. 1311, 1317, and 1319, by: (1) Discharging spills and overflows of untreated wastewater from their property into storm drains, catch basins and storm sewers that discharge directly into navigable waters, in violation of Section 301 of the Act; (2) failing to obtain a stormwater permit pursuant to Section 402 of the Act, and discharging stormwater associated with industrial processes in violation of Section 301 of the Act; and (3) discharging untreated wastewater at volumes that passed-through or interfered with a nearby publicly owned treatment works (“POTW”), which itself discharges to navigable waters, in violation of Section 307 of the Act.

The consent decree requires the defendants to pay a $330,000 civil penalty and to perform injunctive relief, including enhanced monitoring of the plant's effluent and the submission of, and compliance with, contingency plans in the event of equipment failures, and any further pass-throughs or interferences at the POTW. The consent decree resolves the civil claims of the United States for the violations alleged in the complaint through the date of lodging of the consent decree, and civil claims that could have brought against the defendants by the United States pursuant to Sections 307 or 309 of the Act for (i) violations of a previously issued administrative order or (ii) certain violations of the Clean Water Act occurring through the date of lodging of the consent decree.

The publication of this notice opens a period for public comment on the consent decree. Comments should be addressed to the Assistant Attorney General, Environment and Natural Resources Division, and should refer to United States v. Kiryas Joel Poultry Processing Plant, Inc., D.J. Ref. No. 90-5-1-1-10219. All comments must be received no later than 30 days after the publication date of this notice. Comments may be submitted either by email or by mail:

To submit comments: | Send them to:
By e-mail | pubcomment-ees.enrd@usdoj.gov.
By mail | Assistant Attorney General U.S. DOJ—ENRD, P.O. Box 7611, Washington, DC 20044-7611.

Public comments timely received will be filed on the public court docket.

During the public comment period, the consent decree may be examined and downloaded at this Justice Department Web site: http://www.usdoj.gov/enrd/Consent_Decrees.html. We will provide a paper copy of the Consent Decree upon written request and payment of reproduction costs. Please mail your request and payment to: Consent Decree Library, U.S. DOJ—ENRD, P.O. Box 7611, Washington, DC 20044-7611.

Please enclose a check or money order for $3.50 (25 cents per page reproduction cost) payable to the United States Treasury.

Robert E. Maher Jr.,
Assistant Section Chief, Environmental Enforcement Section, Environment and Natural Resources Division.

[FR Doc. 2014-25652 Filed 10-28-14; 8:45 am]

BILLING CODE 4410-15-P